ENVIRONMENTAL PROTECTION AGENCY

40 CFR Part 52

[EPA-R06-OAR-2009-0648; FRL-9728-7]

Approval and Promulgation of Implementation Plans; New Mexico; Albuquerque/Bernalillo County: Infrastructure and Interstate Transport Requirements for the 1997 and 2008 Ozone and the 1997 and 2006 PM2.5 NAAQS

Correction

In rule document 2012-22975 beginning on page 58032 in the issue of Wednesday, September 19, 2012, make the following corrections:

§ 52.1620 [Corrected]

Due to an error in the EPA approval date, the table entitled “EPA-APPROVED ALBUQUERQUE/BERNALILLO COUNTY, NM REGULATIONS” on pages 58034 and 58035 is being reprinted in its entirety to read as follows:

EPA-Approved Albuquerque/Bernalillo County, NM Regulations
State citation | Title/subject | State approval/effective date | EPA approval date | Explanation
New Mexico Administrative Code (NMAC) Title 20—Environment Protection, Chapter 11—Albuquerque/Bernalillo County Air Quality Control Board
| * * * * * * *
Part 8 (20.11.8 NMAC) | Ambient Air Quality Standards | 8/12/2009 | September 19, 2012, [Insert FR page number where document begins] |
| * * * * * * *
Part 61 (20.11.61 NMAC) | Prevention of Significant Deterioration | 1/10/2011 | September 19, 2012, [Insert FR page number where document begins] |
| * * * * * * *

[FR Doc. C1-2012-22975 Filed 2-11-13; 8:45 am]

BILLING CODE 1505-01-D